DEPARTMENT OF HEALTH AND HUMAN SERVICES

National Institutes of Health

Submission for OMB Review; 30-Day Comment Request National Cancer Institute (NCI) Future Fellows Resume Databank

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and/or suggestions regarding the item(s) contained in this notice, especially regarding the estimated public burden and associated response time, should be directed to the: Office of Management and Budget, Office of Regulatory Affairs, OIRA_submission@omb.eop.gov or by fax to 202-395-6974, Attention: Desk Officer for NIH.

FOR FURTHER INFORMATION CONTACT: To request more information on the proposed project or to obtain a copy of the data collection plans and instruments, contact: Angela Jones, Program Coordinator, Center for Cancer Training, National Cancer Institute, 9609 Medical Center Drive, Room 2W-236, Bethesda, Maryland, 20892 or call non-toll-free number (240) 276-5659 or Email your request, including your address to: jonesangel@mail.nih.gov.

SUPPLEMENTARY INFORMATION: This proposed information collection was previously published in the Federal Register on August 13, 2018, page 40071 (83 FR 40071) and allowed 60 days for public comment. No public comments were received. The purpose of this notice is to allow an additional 30 days for public comment. The National Cancer Institute (NCI), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: National Cancer Institute Future Fellows Resume Databank, 0925-XXXX, Exp., Date XX/XXXX, EXISTING COLLECTION IN USE WITHOUT OMB NUMBER, National Cancer Institute (NCI), National Institutes of Health (NIH).

Need and Use of Information Collection: The National Cancer Institute, Center for Cancer Training mission is to catalyze the development of the 21st century workforce capable of advancing cancer research through a scientifically integrated approach. This is accomplished by, (1) coordinating and providing research training and career development activities for fellows and trainees in NCI's laboratories, clinics, and other research groups, (2) developing, coordinating, and implementing opportunities in support of cancer research training, career development, and education at institutions nationwide, and (3) identifying workforce needs in cancer research and adapting NCI's training and career development programs and funding opportunities to address these needs. The proposed information collection involves a website to collect and maintain resumes of interested candidates to be considered for postdoctoral fellowships and internships in science. After posting their resume in the database, NCI Scientists can view and select candidates for current fellowship and internship opportunities offered at NCI.

OMB approval is requested for 3 years. There are no costs to respondents other than their time. The total estimated annualized burden are 200 hours.

Estimated Annualized Burden Hours
Category of respondent | Number of respondents | Number of responses per respondent | Average time per response (in hours) | Total annual burden hours
Individual | 200 | 2 | 30/60 | 200
Totals | 200 | 400 |  | 200

Patricia M. Busche,
Project Clearance Liaison, National Cancer Institute, National Institutes of Health.

[FR Doc. 2018-26765 Filed 12-10-18; 8:45 am]

BILLING CODE 4140-01-P